DEPARTMENT OF ENERGY

Federal Energy Regulatory Commission

[Docket No. EL02-75-000]

Duke Energy Trading and Marketing, L.L.C. v. Entergy Arkansas, Inc., Entergy Gulf States, Inc., Entergy Louisiana, Inc., Entergy Mississippi, Inc., Entergy New Orleans, Inc., and Entergy Services, Inc.; Notice of Complaint Requesting Fast Track Processing

April 4, 2002.

Take notice that on April 3, 2002, Duke Energy Trading and Marketing, LLC, (DETM) filed a Complaint Requesting Fast Track Processing against Entergy Arkansas, Inc., Entergy Gulf States, Inc., Entergy Louisiana, Inc., Entergy Mississippi, Inc., Entergy New Orleans, Inc., and Entergy Services, Inc. (collectively, Entergy). The Complaint asserts that Entergy, in violation of the terms of its Open Access Transmission Tariff (OATT), has failed to process DEMT's application, as agent for the City of North Little Rock, for network transmission service on the Entergy system according to the procedures and time frames set forth in Entergy's OATT.

Copies the Complaint have been served by e-mail, messenger, or overnight delivery on Entergy, as well as the Arkansas Public Service Commission.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: April 15, 2002.

Linwood A. Watson, Jr.,
Deputy Secretary.

[FR Doc. 02-8648 Filed 4-9-02; 8:45 am]

BILLING CODE 6717-01-P